DEPARTMENT OF THE INTERIOR

Fish and Wildlife Service

[FWS-R4-FHC-2012-N093; FVHC98130406900Y4-XXX-FF04G01000]

DEEPWATER HORIZON Oil Spill; Final Phase I Early Restoration Plan and Environmental Assessment

AGENCY: Fish and Wildlife Service, Interior.

ACTION: Notice of availability of final report.

SUMMARY: In accordance with the Oil Pollution Act of 1990 (OPA), the National Environmental Policy Act (NEPA), the Framework Agreement for Early Restoration Addressing Injuries Resulting from the DEEPWATER HORIZON Oil Spill (Framework Agreement), notice is hereby given that the Federal and State natural resource trustee agencies (Trustees) have approved the Phase I Early Restoration Plan and Environmental Assessment (Phase I ERP/EA) describing the first eight restoration projects selected by the Trustees to commence the process of restoring natural resources and services injured or lost as a result of the DEEPWATER HORIZON oil spill, which occurred on or about April 20, 2010, in the Gulf of Mexico. The purpose of this notice is to inform the public of the availability of the Phase I ERP/EA.

ADDRESSES: Obtaining Documents: You may download the Phase I ERP/EA and the Framework Agreement at http://www.gulfspillrestoration.noaa.gov or http://www.doi.gov/deepwaterhorizon. Alternatively, you may request a CD of the document (see FOR FURTHER INFORMATION CONTACT). You may also review hard copies of the Phase I ERP/EA at any of the public repositories listed at http://www.doi.gov/deepwaterhorizon.

FOR FURTHER INFORMATION CONTACT: Brian Spears, at FW4DWHInfo@fws.gov.

SUPPLEMENTARY INFORMATION:

Introduction

On or about April 20, 2010, the mobile offshore drilling unit DEEPWATER HORIZON, which was being used to drill a well for BP Exploration and Production, Inc. (BP) in the Macondo prospect (Mississippi Canyon 252-MC252), experienced a significant explosion, fire and subsequent sinking in the Gulf of Mexico, resulting in discharges of oil and other substances from the rig and from the wellhead on the seabed. An estimated 4.9 million barrels (210 million gallons) of oil were released from the well into the Gulf of Mexico over a period of approximately three months. In addition, approximately 771,000 gallons of dispersants were applied to the waters of the spill area in an attempt to minimize impacts from spilled oil. Affected resources include ecologically, recreationally, and commercially important species and their habitats in the Gulf of Mexico and along the coastal areas of Alabama, Florida, Louisiana, Mississippi, and Texas.

Federal and State trustees (listed below) are conducting the natural resource damage assessment for the DEEPWATER HORIZON oil spill under the Oil Pollution Act 1990 (OPA; 33 U.S.C. 2701 et seq.).

The Trustees are:

• U.S. Department of the Interior (DOI), as represented by the National Park Service, U.S Fish and Wildlife Service, and Bureau of Land Management;

• National Oceanic and Atmospheric Administration (NOAA), on behalf of the U.S Department of Commerce;

• State of Louisiana Coastal Protection and Restoration Authority, Oil Spill Coordinator's Office, Department of Environmental Quality, Department of Wildlife and Fisheries, and Department of Natural Resources;

• State of Mississippi Department of Environmental Quality;

• State of Alabama Department of Conservation and Natural Resources and Geological Survey of Alabama;

• State of Florida Department of Environmental Protection and Fish and Wildlife Conservation Commission; and

• Texas Parks and Wildlife Department, Texas General Land Office, and Texas Commission on Environmental Quality.

The U.S. Department of Defense (DOD) is a Trustee, but does not have affected lands in this Phase I ERP/EA.

Background

On April 20, 2011, BP agreed to provide up to $1 billion toward early restoration projects in the Gulf of Mexico to address injuries to natural resources caused by the DEEPWATER HORIZON oil spill. The Framework Agreement provides a mechanism through which the Trustees and BP can work together “to commence implementation of early restoration projects that will provide meaningful benefits to accelerate restoration in the Gulf as quickly as practicable” prior to the completion of the natural resource damage assessment process or full resolution of the Trustees' natural resource damages claim.

As the first step in this accelerated process, the Trustees proposed a suite of eight early restoration projects in a Phase I Draft Early Restoration Plan and Environmental Assessment (DERP/EA) made public December 14, 2011. The public was afforded 60 days to review and comment on the DERP/EA (77 FR 78016, December 15, 2011). During that review period, the Trustees also held 12 public meetings in January and February 2012 in the 5 Gulf States and Washington, DC to facilitate public comment on that plan.

The Trustees considered the public comments on the DERP/EA prior to finalizing selection of the Phase 1 Early Restoration projects. The public comments received and the Trustees' responses are addressed in the Phase 1 ERP/EA at Chapter 5.

Overview of the Phase 1 ERP/EA

Early Restoration Plan Alternatives, Including the Selected Alternative

The ERP/EA describes two early restoration alternatives: No Action—Natural Recovery (required for consideration by OPA) and Selected Alternative—Phase I Early Restoration Projects. Under the No Action Alternative, the trustees would not implement early restoration projects as described in this ERP/EA. Rather, the trustees would rely, for the time being, solely on natural recovery processes to restore natural resources to their pre-spill conditions and would undertake no early actions to accelerate recovery or to help address interim resource losses.

The Selected Alternative includes eight projects that meet the selection criteria as described in the Phase I ERP/EA.

Selected Early Restoration Alternative

The Selected Alternative includes the following suite of early restoration projects: (1) Lake Hermitage Marsh Creation—NRDA Early Restoration Project; (2) Louisiana Oyster Cultch Project; (3) Mississippi Oyster Cultch Restoration; (4) Mississippi Artificial Reef Habitat; (5) Marsh Island (Portersville Bay) Marsh Creation; (6) Alabama Dune Restoration Cooperative Project; (7) Florida Boat Ramp Enhancement and Construction; (8) Florida (Pensacola Beach) Dune Restoration. Each of these projects is expected to benefit a natural resource or service injured by the DEEPWATER HORIZON oil spill.

This Phase I ERP/EA represents the initial set of projects selected as part of the early restoration process. Planning for additional early restoration actions is continuing. Neither the Phase I ERP/EA nor any subsequent plan for early restoration is intended to or will fully address all injuries caused by the spill or provide the extent of restoration needed to satisfy claims against responsible parties. Further comprehensive restoration will still be required to fully compensate the public for natural resource losses from the oil spill.

Administrative Record

The documents comprising the Administrative Record can be viewed electronically at http://www.doi.gov/deepwaterhorizon/adminrecord/index.cfm.

Author

The primary author of this notice is Nanciann Regalado.

Authorities

The authorities of this action are the Oil Pollution Act of 1990 (33 U.S.C. 2701 et seq.), the implementing Natural Resource Damage Assessment regulations found at 15 CFR Part 990, and the Framework Agreement.

Dated: April 16, 2012.
Cynthia K. Dohner,
DOI Authorized Official.

[FR Doc. 2012-9581 Filed 4-18-12; 11:15 am]

BILLING CODE 4310-55-P